DEPARTMENT OF COMMERCE

International Trade Administration

Healthcare Technology & Hospital Information Services Trade Mission to the Kingdom of Saudi Arabia and Kuwait

April 23-28, 2016.

AGENCY: International Trade Administration, Department of Commerce.

ACTION: Notice.

SUMMARY: The United States Department of Commerce, International Trade Administration (ITA), with support from the U.S. Chamber of Commerce and organizers of the Saudi-American Healthcare Forum (SAHF) is organizing a Healthcare Technology & Hospital Information Services Trade Mission to the Kingdom of Saudi Arabia and Kuwait from April 23-28, 2016. The purpose of the mission is to introduce U.S. firms to the rapidly expanding healthcare sectors in these two countries and to assist U.S. companies in pursuing opportunities in this sector.

The mission is designed for U.S. companies and international hospital groups providing hospital operation and management services, hospital information systems, and eHealth solutions. The mission also will assist U.S. companies already doing business in Saudi Arabia and Kuwait to expand their footprint. Target sectors holding high potential for U.S companies include:

• Hospital operation and management,

• healthcare training and staffing services,

• healthcare education, and

• health information systems and informatics (e.g., electronic health records).

The mission is timed to take place during the Saudi-American Healthcare Forum (SAHF) on April 25-27, 2016. The SAHF is an exclusive event dedicated to building new relationships, fostering existing partnerships, and exchanging best practices between the United States and the Middle East. The 2015 forum attracted over 1,000 attendees intent on promoting healthcare diplomacy through bilateral and international research, technology development, and education and training. Approximately 50 U.S. companies and organizations attended the event. Additional information about the SAHF can be found here: http://sahf15.com/.

Supported by American industry participants and the U.S. Embassy, the 2016 SAHF will showcase the ongoing health-related cooperation between the U.S. Government and Saudi healthcare counterparts. The U.S. trade mission participants will be highlighted at the SAHF through speaking roles designed to elevate their companies' visibility as thought leaders in the field of healthcare innovation. Trade mission participants also will have free access to all seminars offered at the SAHF, if they wish to participate. Additionally, through customized meetings organized by the U.S. Commercial Service, trade mission participants will gain access to top level Saudi health decision makers to gain exposure they would not otherwise be able to achieve on their own.

The mission will help participating U.S. firms and associations/organizations gain market insights, make industry and government contacts, solidify business strategies and advance specific projects with the goal of increasing U.S. healthcare services exports. The trade mission will start in Riyadh, Saudi Arabia, where participants will receive market briefings from U.S. Commercial Service and industry experts, hold one-on-one business meetings, meet with Saudi government officials and organizations, and participate in networking events. Delegates will be invited to participate in the SAHF. Following the SAHF, trade mission participants will travel to Jeddah, Saudi Arabia and then to Kuwait, where they will have additional opportunities to meet with key contacts and decision makers. Participating firms may also wish to remain in Riyadh, or if the firm decides to send two participants on the mission, one representative can remain in Riyadh, rather than continue to Jeddah, to participate in SAHF seminars. Participating in an official U.S. industry delegation, rather than traveling on their own, will enhance the companies' abilities to identify opportunities in Saudi Arabia and Kuwait.

Schedule
Saturday—April 23, Riyadh, Saudi Arabia | • Arrive Riyadh and hotel check-in • Welcome reception/ice breaker
Sunday—April 24, Riyadh, Saudi Arabia | • Welcome and overview of Trade Mission (TM) • Market briefings from the U.S. Commercial Service and industry experts • One-on-one business meetings • Networking reception in Riyadh
Monday—April 25, Riyadh, Saudi Arabia | • Government meetings • Saudi-American Healthcare Forum (SAHF) speaking engagements for trade mission participants • SAHF opening ceremony & gala dinner
Tuesday—April 26, Riyadh & Jeddah | • SAHF speaking engagements/TM split • Some TM representatives depart for Jeddah (PM) • Networking reception in Jeddah
Wednesday—April 27, Jeddah + Kuwait | • One-on-one business meetings Jeddah (AM) • Depart for Kuwait City, Kuwait (PM) • Networking reception in Kuwait
Thursday—April 28, Kuwait City, Kuwait | • Welcome and breakfast briefings • Government meetings • One-on-one business meetings • Mission ends

Web site: Please visit our official mission Web site for more information: https://www.export.gov/trademissions/saudikuwaithealthcare2016.

Participation Requirements

All parties interested in participating in the trade mission must complete and submit an application package for consideration by the U.S. Department of Commerce. All applicants will be evaluated on their ability to meet certain conditions and best satisfy the selection criteria as Outlined below and will be notified whether they are chosen to participate in the mission. A minimum of 12 and maximum of 15 companies and/or trade associations/organizations will be selected from the applicant pool to participate in the trade mission.

Fees and Expenses

After an applicant has been selected to participate in the mission, a payment to the U.S. Department of Commerce in the form of a participation fee is required. Upon notification of acceptance to participate, those selected have five (5) business days to submit payment or the acceptance may be revoked.

The participation fee for the trade mission to Saudi Arabia and Kuwait is $3,740 for small or medium-sized enterprises (SME) and $4,470 for large companies. The fee for each additional representative (large firm or SME or trade association/organization) is $750.

Exclusions

The mission fee does not include any personal travel expenses such as lodging, most meals, local ground transportation (except for transportation to and from meetings, airport transfers during the mission) and air transportation. Participants will, however, be able to take advantage of U.S. Government per diem rates for hotel rooms. Business or entry visas may be required for participation in the mission. Applying for and obtaining such visas will be the responsibility of the mission participant. Government fees and processing expenses to obtain such visas are not included in the participation fee. However, the U.S. Department of Commerce will provide instructions to each participant on the procedures required to obtain necessary business visas.

Conditions for Participation

Applicants must submit a completed and signed mission application and supplemental application materials, including information on their products and/or services, primary market objectives, and goals for participation by February 12, 2016, but applications will be reviewed on a rolling basis beginning October 15, 2015 (see timeframe below). If the U.S. Department of Commerce receives an incomplete application, the Department may either: request additional information/clarification, take the lack of information into account when evaluating the application, or reject the application.

Each applicant must also certify that the products and services it seeks to export through the mission are either produced in the United States, or, if not, are marketed under the name of a U.S. company and have at least fifty-one percent U.S. content by value. In the case of a trade association or organization, the applicant must certify that, for each firm or service provider to be represented by the association/organization, the products and/or services the represented firm or service provider seeks to export are either produced in the United States or, if not, marketed under the name of a U.S. company and have at least fifty-one percent U.S. content.

In addition, each applicant must:

• Certify that the products and services that it wishes to market through the mission would be in compliance with U.S. export controls and regulations;

• Certify that it has identified any matter pending before any bureau or office in the U.S. Department of Commerce;

• Certify that it has identified any pending litigation (including any administrative proceedings) to which it is a party that involves the U.S. Department of Commerce;

• Sign and submit an agreement that it and its affiliates (1) have not and will not engage in the bribery of foreign officials in connection with a company's/participant's involvement in this mission, and (2) maintain and enforce a policy that prohibits the bribery of foreign officials; and

• Certify that it meets the minimum requirements as stated in this announcement. In the case of a trade association/organization, the applicant must certify that each firm or service provider to be represented by the association/organization can make the above certifications.

Selection Criteria for Participation

Targeted mission participants are U.S. manufacturers, services providers, and trade associations/organizations providing or promoting healthcare products/services that have an interest in entering or expanding their business in the Saudi and Kuwaiti markets. The following criteria will be evaluated in selecting participants:

• Suitability of a firm's or trade association's products or services to these markets;

• Firm's or trade association/organization's potential for business in the markets, including likelihood of exports resulting from the mission; and

• Consistency of the firm's or trade association/organization goals and objectives with the stated scope of the mission.

Additional factors, such as diversity of company size, type, location, and demographics, may also be considered during the review process. Referrals from political organizations and any documents, including the application, containing references to partisan political activities (including political contributions) will be removed from an applicant's submission and not considered during the selection process.

Timeline for Recruitment and Applications

Mission recruitment will be conducted in an open and public manner, including publication in the Federal Register, posting on the U.S. Commerce Department trade mission calendar (http://www.export.gov/trademissions/) and other Internet Web sites, press releases to general and trade media, direct mail, broadcast fax, notices by industry trade associations and other multiplier groups, and publicity at industry meetings, symposia, conferences, and trade shows. Recruitment for the mission will begin immediately and conclude no later than February 12, 2016. The U.S. Department of Commerce will review applications and make selection decisions on a rolling basis beginning October 15, 2015 until the maximum of 15 participants is selected. Applications received after February 12, 2016, will be considered only if space and scheduling constraints permit.

FOR FURTHER INFORMATION CONTACT: LeeAnne Haworth, U.S. Department of Commerce, Pittsburgh, PA, Tel: 412-644-2816, Email: leeanne.haworth@trade.gov.

Frank Spector,
Trade Missions Program.

[FR Doc. 2015-26008 Filed 10-15-15; 8:45 am]

BILLING CODE 3510-DR-P